DEPARTMENT OF HEALTH AND HUMAN SERVICES

[Document Identifier: OS-0990-0438-60D]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 27, 2020.

ADDRESSES: Submit your comments to Sherrette.Funn@hhs.gov or by calling (202) 795-7714.

FOR FURTHER INFORMATION CONTACT: When submitting comments or requesting information, please include the document identifier 0990-0438-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Teen Pregnancy Prevention (TPP) Performance Measures for FY2020.

Type of Collection: Revision.

OMB No. 0990-0438—OS-Office of Population Affairs

Abstract: The Office of Population Affairs (OPA), U.S. Department of Health and Human Services (HHS), is requesting a revision of the Teen Pregnancy Prevention Program (TPP) performance measures to collect data from new grantees. In FY2020, OPA expects to award 3-year TPP cooperative agreements to up to 90 organizations across three funding announcements. Collection of performance measures is a requirement of all TPP grant awards and is included in the funding announcements. The measures include dissemination, partners, training, sustainability, reach, dosage, fidelity, quality, Tier 1 supportive services referrals, stakeholder engagement, and Tier 2 Innovation project stage. To reflect the priorities of the new funding announcements, some of the measures and forms have been revised. The data collection will allow OPA to comply with federal accountability and performance requirements, inform stakeholders of grantee progress in meeting TPP program goals, provide OPA with metrics for monitoring FY2020 TPP grantees, and facilitate individual grantees' continuous quality improvement efforts within their projects.

Clearance is requested for three years.

Type of respondent: TPP grantees and their staff.

Annualized Burden Hour Table
Forms (if necessary) | Respondents (if necessary) | Number of respondents | Number of responses per respondents | Average burden per response | Total burden hours
Grantee-level | All grantees | 90 | 2 | 1 | 180
Program-level | Tier 1 and Tier 2 Phase 2 grantees | 64 | 2 | 7 | 896
Stakeholder Engagement | Tier 1 and Tier 2 Innovation Network Grantees | 69 | 2 | 15/60 | 35
Innovation Network | Tier 2 Innovation Network Grantees | 14 | 2 | 15/60 | 8
Supportive Services | Tier 1 Grantees | 54 | 2 | 15/60 | 27
Total |  |  | 2 |  | 1146

Dated: February 21, 2020.
Sherrette A. Funn,
Paperwork Reduction Act Reports Clearance Officer, Office of the Secretary.

[FR Doc. 2020-03839 Filed 2-25-20; 8:45 am]

BILLING CODE 4150-34-P